DEPARTMENT OF AGRICULTURE

Forest Service

Dixie National Forest, UT, Kitty Hawk Administrative Site Master Development Plan

AGENCY: Forest Service, USDA.

ACTION: Notice of Intent to Prepare an Environmental Impact Statement.

SUMMARY: The USDA Forest Service will prepare an Environmental Impact Statement (EIS) to analyze the master development plan for the Kitty Hawk Forest Service Administrative Site within the city limits of Cedar City, Utah. The site is administered by the Cedar City Ranger District, Dixie National Forest, Utah. The agency gives notice of the full environmental analysis and decision-making process that will occur on the proposal so that interested and affected people may become aware of how they can participate in the process and contribute to the final decision.

DATES: Comments concerning the scope of the analysis must be received by thirty days after publication of this Notice of Intent in the Federal Register. The draft environmental impact statement is expected in May, 2010. The final environmental impact statement is expected in September, 2010.

ADDRESSES: Send written comments to: Kitty Hawk Administrative Site Master Development Plan Analysis Coordinator, Cedar City Ranger District, Dixie National Forest, 1789 Wedgewood Lane, Cedar City, Utah 84721. Electronic comments must be submitted in rich text format (.rtf), or Word (.doc) to comments-intermtn-dixie@fs.fed.us.

FOR FURTHER INFORMATION CONTACT: Kitty Hawk Administrative Site Master Development Plan Analysis Coordinator, Cedar City Ranger District, Dixie National Forest, 1789 Wedgewood Lane, Cedar City, Utah 84721.

SUPPLEMENTARY INFORMATION: The 14-acre Kitty Hawk Administrative Site is located in Cedar City at 1750 West Kitty Hawk Drive. The site is owned by the USDA-Forest Service and jointly occupied by the Dixie National Forest, the USDI-Bureau of Land Management Cedar City District Office and the USDI-National Park Service. The site is zoned as I&M1 (Industrial and Manufacturing). Management of the site is in compliance with City zoning as well as State and Federal regulations regarding administrative sites. The site has been developed over the past 30 years and currently has four permanent buildings, several parking areas, several sheds for equipment storage and open areas designated for a variety of vehicle and equipment storage.

Recent review indicates the need for a Master Development Plan to guide future development of the site. Preliminary analysis found that the presence of Utah prairie dogs (a Threatened species) on the site warranted an environmental impact statement of the new Master Development Plan.

The Proposed Action is a Master Development Plan (MDP) for the existing 14-acre administrative site. The MDP will detail planned facilities, other development and uses for the site into the foreseeable future.

Existing facilities include an Interagency Fire Center, Fire Cache, Old Fire Center/Future Building Pad and Fire Engine Building.

New facilities to be constructed include additions to the Interagency Fire Center, five new buildings (engine building, vehicle wash, HAZMAT storage, maintenance shop and equipment building.

Part of the site will be hardened for outside storage for ATV's, equipment, and supplies. Six large parking lots will also be developed.

Possible Alternatives: Two or more alternatives will be considered in the analysis. No action. Under this alternative, the existing administrative site will remain with no further development. This alternative will be fully evaluated and described.

Proposed Action (as described above).

Additional Alternatives—Additional alternatives may be developed in response to issues and resource conditions evaluated through the analysis.

Responsible Official: The responsible official for this EIS and the Record of Decision is: Robert G. MacWhorter, Forest Supervisor, Dixie National Forest, 1789 Wedgewood Lane, Cedar City, Utah 84721; FAX: (435) 865-3791.

Nature of Decision To Be Made: The Responsible Official will decide whether the proposed Master Development Plan would be adopted and the site developed accordingly.

Scoping Process: Public participation was initiated through scoping in December, 2009. A scoping notice was sent to individuals and organizations who are potentially affected parties and those that have expressed interest in projects. Comments and issues were received in response to scoping.

Scoping will continue. Public participation is especially important during scoping and review of the draft EIS. Individuals, organizations, Federal, State, and local agencies who are interested in or affected by the decision are invited to participate in the scoping process. This information will be used in the preparation of the draft EIS.

Preliminary Issue. The following issue was identified through public scoping and internal resource analyses:

The site has Utah prairie dog habitat and a colony of prairie dogs. This is a Threatened species listed under the Endangered Species Act. Consultation with the U.S. Fish and Wildlife Service have concluded that the prairie dog habitat will be adversely affected by the planned developments. Mitigation for the habitat loss will be developed during further consultation with USFWS.

Comments Requested. Comments will continue to be received and considered throughout the analysis process. Comments received in response to this notice and through scoping, including names and addresses of those who comment, will be considered part of the public record of this proposed action and will be available for public inspection. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within a specified number of days.

Early Notice of Importance of Public Participation in Subsequent Environmental Review: A draft environmental impact statement will be prepared for comment. The draft EIS is expected to be filed with the EPA (Environmental Protection Agency) and to be available for public review. At that time the EPA will publish a notice of availability of the draft EIS in the Federal Register. The comment period for the draft environmental impact statement will be forty-five days from the date the EPA's notice of availability appears in the Federal Register. Comments on the draft EIS should be as specific as possible and may address the adequacy of the statement or the merits of the alternatives discussed (Reviewers may wish to refer to the Council on Environmental Quality Regulations for implementing the procedural provisions of the National Environmental Policy Act at 40 CFR 1503.3 in addressing these points).

The Forest Service believes, at this early stage, it is important to give reviewers notice of several court rulings related to public participation in the environmental review process. First, reviewers of draft environmental impact statements must structure their participation in the environmental review of the proposal so that it is meaningful and alerts an agency to the reviewers' position and contentions. Vermont Yankee Nuclear Power Corp. v. NRDC, 435 U.S. 519, 553 (1978). Also, environmental objections that could have been raised at the draft environmental impact statement stage but that are not raised until after completion of the final environmental impact statement may be waived or dismissed by the courts. City of Angoon v. Hodel (9th Circuit, 1986), and Wisconsin Heritages, Inc. v. Harris, 490 F. Supp. 1334. 1338 (E.D. Wis. 1980). Because of these court rulings, it is very important that those interested in this proposed action participate by the close of the 45-day comment period so that substantive comments and objections are made available to the Forest Service at the time it can meaningfully consider them and respond to them in the final environmental impact statement. Comments submitted anonymously will be accepted and considered; however, those who submit anonymous comments will not have standing to appeal the subsequent decision under 36 CFR Parts 215. To assist the Forest Service in identifying and considering issues and concerns about the proposed action, comments on the draft environmental impact statement should be as specific as possible. It is also helpful if comments refer to specific pages or chapters of the draft statement. Comments may also address the adequacy of the statement or the merits of the alternatives formulated and discussed in the statement. Reviewers may wish to refer to the Council on Environmental Quality Regulations for implementing the procedural provisions of the National Environmental Policy Act at 40 CFR 1503.3 in addressing these points.

In the final EIS, the Forest Service is required to respond to substantive comments and responses received during the comment period that pertain to the environmental consequences discussed in the draft EIS and applicable laws, regulations, and policies considered in making a decision regarding the proposal. The Responsible Official will document the decision and rationale for the decision in a Record of Decision. The final EIS is scheduled for completion in September, 2010. The decision will be subject to review under Forest Service Appeal Regulations.

Dated: January 29, 2010.
Robert G. MacWhorter,
Forest Supervisor, Dixie National Forest.

[FR Doc. 2010-2516 Filed 2-9-10; 8:45 am]

BILLING CODE 3410-11-M